DEPARTMENT OF HEALTH AND HUMAN SERVICES

National Institutes of Health

Center for Scientific Review; Amended Notice of Meeting

Notice is hereby given of a change in the meeting of the Center for Scientific Review Special Emphasis Panel, April 13, 2016, 01:00 p.m. to April 13, 2016, 04:00 p.m., National Institutes of Health, 6701 Rockledge Drive, Bethesda, MD 20892 which was published in the Federal Register on March 23, 2016, 81 FR 15543.

The meeting will be held on April 7, 2016 at 12:00 p.m.-4:00 p.m. The Panel Name of the meeting will be “Neurophysiology”. The location remains the same. The meeting is closed to the public.

Dated: March 25, 2016.
Carolyn Baum,
Program Analyst, Office of Federal Advisory Committee Policy.

[FR Doc. 2016-07480 Filed 4-1-16; 8:45 am]

BILLING CODE 4140-01-P